FEDERAL RESERVE SYSTEM

Consumer Advisory Council; Solicitation of Nominations for Membership

AGENCY: Board of Governors of the Federal Reserve System.

ACTION: Notice.

SUMMARY: The Board is inviting the public to nominate qualified individuals for appointment to its Consumer Advisory Council, whose membership represents interests of consumers, communities, and the financial services industry. New members will be selected for three-year terms that will begin in January 2003. The Board expects to announce the selection of new members by year-end 2002.

DATES: Nominations should be received by August 19, 2002.

ADDRESSES: Nominations, including a résumé for each nominee, must be received by August 19, 2002. Electronic nominations are preferred. The appropriate form can be accessed at: http://www.federalreserve.gov/forms/cacnominationform.cfm. If electronic submission is not feasible, the nominations can be mailed (not sent by facsimile) to Sandra F. Braunstein, Assistant Director, Division of Consumer and Community Affairs, Board of Governors of the Federal Reserve System, Washington, DC 20551.

FOR FURTHER INFORMATION CONTACT: Ann Bistay, Secretary of the Council, Division of Consumer and Community Affairs, (202) 452-6470, Board of Governors of the Federal Reserve System, Washington, DC 20551.

SUPPLEMENTARY INFORMATION: The Consumer Advisory Council was established in 1976 at the direction of the Congress to advise the Federal Reserve Board on the exercise of its duties under the Consumer Credit Protection Act and on other consumer-related matters. The Council by law represents the interests both of consumers and of the financial services industry (15 USC 1691(b)). Under the Rules of Organization and Procedure of the Consumer Advisory Council (12 CFR 267.3), members serve three-year terms that are staggered to provide the Council with continuity.

New members will be selected for terms beginning January 1, 2003, to replace members whose terms expire in December 2002; the Board expects to announce its appointment of new members by year-end. Nomination letters should include a résumé and information about past and present positions held by the nominee; a description of special knowledge, interests or experience related to community reinvestment, consumer protection regulations, consumer credit, or other consumer financial services; and the full name, title, organization name, organization description, current address, telephone and fax numbers for both the nominee and the nominator. Individuals may nominate themselves.

The Board is interested in candidates who have familiarity with consumer financial services, community reinvestment, and consumer protection regulations, and who are willing to express their viewpoints. Candidates do not have to be experts on all levels of consumer financial services or community reinvestment, but they should possess some basic knowledge of the area. They must be able and willing to make the necessary time commitment to participate in conference calls, and prepare for and attend meetings three times a year (usually for two days, including committee meetings), held at the Board's offices in Washington, DC. The Board pays travel expenses, lodging, and a nominal honorarium.

In making the appointments, the Board will seek to complement the background of continuing Council members in terms of affiliation and geographic representation, and to ensure the representation of women and minority groups. The Board may consider prior years' nominees and does not limit consideration to individuals nominated by the public when making its selection.

Council members whose terms end as of December 31, 2002, are:

Dorothy Broadman, Director of Corporate Citizenship, Capital One Financial Corporation, Corporate Communications, Falls Church, Virginia

Teresa A. Bryce, General Counsel, Nexstar Financial Corporation, St. Louis, Missouri

Robert Cheadle, Legislative Counsel, The Chickasaw Nation, Tribal Legislature, Ada, Oklahoma

Lester Wm. Firstenberger, Attorney at Law, Pittsfield, New Hampshire

Jeremy Nowak, Chief Executive Officer, The Reinvestment Fund, Philadelphia, Pennsylvania

Russell Schrader, Senior Vice President and Assistant General Counsel, Visa U.S.A., San Francisco, California

Council members whose terms continue through 2003 and 2004 are:

Anthony Abbate, President and Chief Executive Officer, Interchange Bank, Saddle Brook, New Jersey

Janie Barerra, President and Chief Executive Officer, ACCION Texas, San Antonio, Texas

Kenneth Bordelon, Chief Executive Officer, E Federal Credit Union, Baton Rouge, Louisiana

Manuel Casanova, Executive Vice President, International Bank of Commerce, Brownsville, Texas

Constance Chamberlin, President/CEO, Housing Opportunities Made Equal, Richmond, Virginia

Robin Coffey, Vice President, Harris Trust and Savings Bank, Chicago, Illinois

Thomas FitzGibbon, Senior Vice President, MB Financial Bank, N.A., Chicago, Illinois

Elizabeth Renuart, Staff Attorney, National Consumer Law Center, Boston, Massachusetts

Debra Reyes, President, Neighborhood Lending Partners, Inc., Tampa, Florida

Benson Roberts, Vice President for Policy, Local Initiatives Support Corporation, Washington, District of Columbia

Larry Hawkins, President and Chief Executive Officer, Unity National Bank, Houston, Texas

Earl Jarolimek, Vice President/Corporate Compliance Officer, Community First Bankshares, Fargo, North Dakota

Patrick Liddy, Director of Compliance, Fifth Third Bancorp, Cincinnati, Ohio

Ruhi Maker, Senior Attorney, Public Interest, Law Office of Rochester, Rochester, New York

Oscar Marquis, Attorney, Hunton and Williams, Park Ridge, Illinois

Patricia McCoy, Professor of Law, Cleveland-Marshall College of Law, Cleveland State University, Cleveland, Ohio

Ronald Reiter, Supervising Deputy Attorney General, California Department of Justice, San Francisco, California

Frank Torres, III, Legislative Counsel, Consumers Union, Washington, District of Columbia

Hubert Van Tol, Co-Director, Fairness in Rural Lending, Sparta, Wisconsin

Board of Governors of the Federal Reserve System, June 17, 2002.
Jennifer J. Johnson,
Secretary of the Board.

[FR Doc. 02-15653 Filed 6-20-02; 8:45 am]

BILLING CODE 6210-01-P